INTERNATIONAL TRADE COMMISSION

[Investigation Nos. 701-TA-614 and 731-TA-1431 (Final)]

Magnesium From Israel

Determinations

On the basis of the record ¹ developed in the subject investigations, the United States International Trade Commission (“Commission”) determines, pursuant to the Tariff Act of 1930 (“the Act”), that an industry in the United States is not materially injured or threatened with material injury, and the establishment of an industry in the United States is not materially retarded, by reason of imports of magnesium from Israel, provided for in subheadings 8104.11.00, 8104.19.00, and 8104.30.00 of the Harmonized Tariff Schedule of the United States, that have been found by the U.S. Department of Commerce (“Commerce”) to be sold in the United States at less than fair value (“LTFV”), and to be subsidized by the government of Israel.

¹ The record is defined in sec. 207.2(f) of the Commission's Rules of Practice and Procedure (19 CFR 207.2(f)).

Background

The Commission, pursuant to sections 705(b) and 735(b) of the Act (19 U.S.C. 1671d(b) and 19 U.S.C. 1673d(b)), instituted these investigations effective October 24, 2018, following receipt of petitions filed with the Commission and Commerce by US Magnesium LLC, Salt Lake City, Utah. The final phase of the investigations was scheduled by the Commission following notification of preliminary determinations by Commerce that imports of magnesium from Israel were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on August 5, 2019 (84 FR 38057). The hearing was held in Washington, DC, on November 21, 2019, and all persons who requested the opportunity were permitted to appear in person or by counsel.

The Commission made these determinations pursuant to sections 705(b) and 735(b) of the Act (19 U.S.C. 1671d(b) and 19 U.S.C. 1673d(b)). It completed and filed its determinations in these investigations on January 13, 2020. The views of the Commission are contained in USITC Publication 5009 (January 2020), entitled Magnesium from Israel: Investigation Nos. 701-TA-614 and 731-TA-1431 (Final).

By order of the Commission.
Issued: January 13, 2020.
Lisa Barton,
Secretary to the Commission.

[FR Doc. 2020-00697 Filed 1-16-20; 8:45 am]

BILLING CODE 7020-02-P